DEPARTMENT OF TRANSPORTATION

Federal Aviation Administration

14 CFR Part 39

[Docket No. FAA-2015-3983; Directorate Identifier 2015-NM-141-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 747-100, 747-100B, 747-100B SUD, 747-200B, 747-300, 747SR, and 747SP series airplanes. This proposed AD was prompted by an evaluation by the design approval holder (DAH) indicating that the upper chords of the upper deck floor beams are subject to widespread fatigue damage (WFD). This proposed AD would require repetitive inspections for cracks at the floor panel attachment fastener holes; repetitive inspections for cracks in the upper and lower chords of the upper deck floor beams at permanent fastener locations; repetitive inspections for cracks in certain repaired and modified areas; and related investigative and corrective actions if necessary. This proposed AD would also require repetitive replacement of the upper chords of the upper deck floor beams, including pre-replacement inspections and corrective action if necessary; and post-replacement repetitive inspections and repair if necessary. We are proposing this AD to detect and correct fatigue cracking of the upper chords of the upper deck floor beams. Undetected cracking could result in large deflection or deformation of the upper deck floor beams, resulting in damage to wire bundles and control cables for the flight control system, and reduced controllability of the airplane. Multiple adjacent severed floor beams could result in rapid decompression of the airplane.

DATES: We must receive comments on this proposed AD by November 20, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-3983.

Examining the AD Docket

You may examine the AD docket on the Internet at http://www.regulations.gov by searching for and locating Docket No. FAA-2015-3983; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Roger Caldwell, Aerospace Engineer, Technical Operations Center, ANM-100D, FAA, Denver Aircraft Certification Office, 26805 East 68th Avenue, Room 214, Denver, CO 80249; phone: 303-342-1086; fax: 303-342-1088; email: roger.caldwell@faa.gov.

SUPPLEMENTARY INFORMATION:

Comments Invited

We invite you to send any written relevant data, views, or arguments about this proposed AD. Send your comments to an address listed under the ADDRESSES section. Include “Docket No. FAA-2015-3983; Directorate Identifier 2015-NM-141-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Structural fatigue damage is progressive. It begins as minute cracks, and those cracks grow under the action of repeated stresses. This can happen because of normal operational conditions and design attributes, or because of isolated situations or incidents such as material defects, poor fabrication quality, or corrosion pits, dings, or scratches. Fatigue damage can occur locally, in small areas or structural design details, or globally. Global fatigue damage is general degradation of large areas of structure with similar structural details and stress levels. Multiple-site damage is global damage that occurs in a large structural element such as a single rivet line of a lap splice joining two large skin panels. Global damage can also occur in multiple elements such as adjacent frames or stringers. Multiple-site-damage and multiple-element-damage cracks are typically too small initially to be reliably detected with normal inspection methods. Without intervention, these cracks will grow, and eventually compromise the structural integrity of the airplane, in a condition known as widespread fatigue damage (WFD). As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

An evaluation by the DAH indicated that the upper chords of the upper deck floor beams are subject to WFD. The inspections and replacement in this proposed AD were developed to support the airplane's LOV of the engineering data that support the established structural maintenance program. We are proposing this AD to detect and correct fatigue cracking of the upper chords of the upper deck floor beams. Undetected cracking could result in large deflection or deformation of the upper deck floor beams, resulting in damage to wire bundles and control cables for the flight control system, and reduced controllability of the airplane. Multiple adjacent severed floor beams could result in rapid decompression of the airplane.

Other Relevant Rulemaking

On September 28, 2005, we issued AD 2005-20-29, Amendment 39-14326 (70 FR 59246, October 12, 2005), for certain Boeing Model 747-100, 747-100B, 747-100B SUD, 747-200B, 747-300, 747SP, and 747SR series airplanes. AD 2005-20-29 requires repetitive inspections to detect cracks in various areas of the upper deck floor beams, and repair if necessary. AD 2005-20-29 resulted from fatigue testing that revealed severed upper chords of the upper deck floor beams due to fatigue cracking. We issued AD 2005-20-29, to detect and correct cracking in the upper chords of the upper deck floor beams. Undetected cracking could result in large deflection or deformation of the upper deck floor beams, resulting in damage to wire bundles and control cables for the flight control system, and reduced controllability of the airplane. Multiple adjacent severed floor beams could result in rapid decompression of the airplane.

AD 2005-20-29, Amendment 39-14326 (70 FR 59246, October 12, 2005), refers to Boeing Alert Service Bulletin 747-53A2452, dated April 3, 2003, as the appropriate source of service information for certain inspections. This proposed AD would require new inspections at reduced compliance times, which would end the inspections done using Boeing Alert Service Bulletin 747-53A2452, dated April 3, 2003.

Related Service Information Under 1 CFR Part 51

We reviewed the following service information. This service information is reasonably available because the interested parties have access to it through their normal course of business or by the means identified in the ADDRESSES section of this NPRM.

• Boeing Alert Service Bulletin 747-53A2452, Revision 1, dated July 16, 2012. This service information describes procedures for repetitive open hole or surface high frequency eddy current (HFEC) inspections, as applicable, for cracks at the floor panel attachment fastener holes in certain areas and stations; repetitive surface HFEC inspections for cracks in the upper and lower chords of the upper deck floor beams at permanent fastener locations in certain areas and stations; and related investigative and corrective actions. This service information also describes procedures, for airplanes on which certain repairs or modifications are done, for repetitive open hole or surface HFEC inspections, as applicable, for cracks in the repaired and modified areas; and repair.

• Boeing Alert Service Bulletin 747-53A2852, dated June 22, 2012. This service information describes procedures for repetitive replacement of the upper chords of the upper deck floor beams, including pre-replacement inspections and corrective action, and post-replacement repetitive inspections and repair.

FAA's Determination

We are proposing this AD because we evaluated all the relevant information and determined the unsafe condition described previously is likely to exist or develop in other products of the same type design.

Proposed AD Requirements

This proposed AD would require accomplishing the actions specified in the service information described previously, except as discussed under “Differences Between this AD and the Service Information.” For information on the procedures and compliance times, see this service information at http://www.regulations.gov by searching for and locating Docket No. FAA-2015-3983.

The phrase “related investigative actions” is used in this proposed AD. “Related investigative actions” are follow-on actions that (1) are related to the primary actions, and (2) further investigate the nature of any condition found. Related investigative actions in an AD could include, for example, inspections.

The phrase “corrective actions” is used in this proposed AD. “Corrective actions” are actions that correct or address any condition found. Corrective actions in an AD could include, for example, repairs.

For any repair #10 or repair #13 done as specified in Boeing Alert Service Bulletin 747-53A2452, paragraph (i)(2) of this proposed AD would require that post-repair inspections be done before further flight using a method approved in accordance with the procedures specified in paragraph (o) of this AD. Operators must contact the FAA or Boeing Commercial Airplanes Organization Designation Authorization (ODA) before further flight so that the type of actions and intervals for the post-repair inspections can be determined.

Differences Between This Proposed AD and the Service Information

Boeing Alert Service Bulletin 747-53A2452, Revision 1, dated July 16, 2012; and Boeing Alert Service Bulletin 747-53A2852, dated June 22, 2012; specify to contact the manufacturer for instructions on how to repair certain conditions, but this proposed AD would require repairing those conditions in one of the following ways:

• In accordance with a method that we approve; or

• Using data that meet the certification basis of the airplane, and that have been approved by the Boeing Commercial Airplanes ODA whom we have authorized to make those findings.

Explanation of Compliance Time

The compliance time for the installation specified in this proposed AD for addressing WFD was established to ensure that discrepant structure is replaced before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 67 airplanes of U.S. registry.

We estimate the following costs to comply with this proposed AD:

Estimated Costs
Action | Labor cost | Parts cost | Cost per product | Cost on U.S. operators
Inspections specified in Boeing Alert Service Bulletin 747-53A2452, Revision 1, dated July 16, 2012 | Up to 884 work-hours × $85 per hour = $75,140, per inspection cycle | $0 | $75,140, per inspection cycle | $5,034,380, per inspection cycle.
Replacement specified in Boeing Alert Service Bulletin 747-53A2852, dated June 22, 2012 | Up to 696 work-hours × $85 per hour = $59,160, per replacement | 0 [1] | $59,160, per replacement | $3,963,720, per replacement.
Post-replacement inspections specified in Boeing Alert Service Bulletin 747-53A2852, dated June 22, 2012 | Up to 586 work-hours × $85 per hour = $49,810, per inspection cycle | 0 | $49,810, per inspection cycle | $3,337,270, per inspection cycle.
[1] We currently have no specific cost estimates associated with the parts necessary for the proposed replacement.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2015-3983; Directorate Identifier 2015-NM-141-AD.

(a) Comments Due Date

The FAA must receive comments on this AD action by November 20, 2015.

(b) Affected ADs

This AD affects AD 2005-20-29, Amendment 39-14326 (70 FR 59246, October 12, 2005).

(c) Applicability

This AD applies to The Boeing Company Model 747-100, 747-100B, 747-100B SUD, 747-200B, 747-300, 747SR, and 747SP series airplanes; certificated in any category; as identified in Boeing Alert Service Bulletin 747-53A2852, dated June 22, 2012.

(d) Subject

Air Transport Association (ATA) of America Code 53, Fuselage.

(e) Unsafe Condition

This AD was prompted by an evaluation by the design approval holder (DAH) indicating that the upper chords of the upper deck floor beams are subject to widespread fatigue damage (WFD). We are issuing this AD to detect and correct fatigue cracking of the upper chords of the upper deck floor beams. Undetected cracking could result in large deflection or deformation of the upper deck floor beams, resulting in damage to wire bundles and control cables for the flight control system, and reduced controllability of the airplane. Multiple adjacent severed floor beams could result in rapid decompression of the airplane.

(f) Compliance

Comply with this AD within the compliance times specified, unless already done.

(g) Repetitive Inspections of the Upper Chords of the Upper Deck Floor Beams

At the applicable times specified in Tables 1 through 7 of paragraph 1.E., “Compliance,” of Boeing Alert Service Bulletin 747-53A2452, Revision 1, dated July 16, 2012, except as required by paragraph (l)(1) of this AD: Do the inspections specified in paragraphs (g)(1) and (g)(2) of this AD, and do all applicable related investigative and corrective actions, in accordance with the Accomplishment Instructions of Boeing Alert Service Bulletin 747-53A2452, Revision 1, dated July 16, 2012, except as required by paragraph (l)(2) of this AD. Repeat the inspections specified in paragraphs (g)(1) and (g)(2) of this AD thereafter at the applicable times specified in Tables 1 through 7 of paragraph 1.E., “Compliance,” of Boeing Alert Service Bulletin 747-53A2452, Revision 1, dated July 16, 2012. Do all applicable related investigative and corrective actions before further flight. Doing the inspections required by paragraphs (g)(1) and (g)(2) of this AD terminates the inspections required by paragraphs (m) and (n) of AD 2005-20-29, Amendment 39-14326 (70 FR 59246, October 12, 2005).

(1) Do an open hole or surface high frequency eddy current (HFEC) inspection, as applicable, for cracks at the fastener holes of the floor panel attachment in the applicable areas and stations identified in Boeing Alert Service Bulletin 747-53A2452, Revision 1, dated July 16, 2012.

(2) Do a surface HFEC inspection for cracks in the upper and lower chords of the upper deck floor beams at permanent fastener locations in the applicable areas and stations identified in Boeing Alert Service Bulletin 747-53A2452, Revision 1, dated July 16, 2012.

(h) Terminating Modification and Repair for the Inspection Specified in Paragraph (g)(1) of This AD

A fastener hole modification or a fastener hole repair in Area 1 or Area 2 as described in Boeing Alert Service Bulletin 747-53A2452, Revision 1, dated July 16, 2012, terminates the inspection of the fastener holes of the floor panel attachment required by paragraph (g)(1) of this AD for the repaired or modified area only, provided the modification and repair, including related investigative and corrective actions, are done in accordance with the Accomplishment Instructions of Boeing Alert Service Bulletin 747-53A2452, Revision 1, dated July 16, 2012, except as required by paragraph (l)(2) of this AD.

(i) Post Mod/Repair Repetitive Inspections

(1) For airplanes on which any fastener hole modification or any fastener hole repair was done as specified in Boeing Alert Service Bulletin 747-53A2452: Except as required by paragraph (i)(2) of this AD, at the applicable times specified in Tables 8 and 9 of paragraph 1.E., “Compliance,” of Boeing Alert Service Bulletin 747-53A2452, Revision 1, dated July 16, 2012, or within 1,000 flight cycles after the effective date of this AD, whichever occurs later, do an open hole or surface HFEC inspection, as applicable, for cracks in the repaired and modified areas, in accordance with the Accomplishment Instructions of Boeing Alert Service Bulletin 747-53A2452, Revision 1, dated July 16, 2012. If any cracking is found, before further flight, repair using a method approved in accordance with the procedures specified in paragraph (o) of this AD. Repeat the applicable inspections thereafter at the times specified in Tables 8 and 9 of paragraph 1.E., “Compliance,” of Boeing Alert Service Bulletin 747-53A2452, Revision 1, dated July 16, 2012. Doing an inspection required by this paragraph terminates the inspections required by paragraph (p) of AD 2005-20-29, Amendment 39-14326 (70 FR 59246, October 12, 2005).

(2) For any repair #10 or repair #13 done as specified in Boeing Alert Service Bulletin 747-53A2452: Before further flight, do post-repair inspections using a method approved in accordance with the procedures specified in paragraph (o) of this AD.

(j) Replacement of the Upper Chords of the Upper Deck Floor Beams (Includes Pre-Replacement Inspections)

Replace the upper chords of the upper deck floor beams by doing the actions required by paragraphs (j)(1) and (j)(2) of this AD at the times specified in those paragraphs. Accomplishing the replacement required by this paragraph terminates the inspections required by paragraphs (g) and (i) of this AD.

(1) Before the accumulation of 30,000 total flight cycles, or within 3,000 flight cycles after the effective date of this AD, whichever occurs later, do an open hole HFEC inspection for cracks at certain fastener locations in the floor beam webs and side of body frames, and do a detailed inspection for cracks of any removed part that will be re-installed, and do all applicable corrective actions, in accordance with the Accomplishment Instructions of Boeing Alert Service Bulletin 747-53A2852, dated June 22, 2012, except as required by paragraph (l)(2) of this AD. Do all applicable corrective actions before further flight.

(2) Before further flight after accomplishing the inspections required by paragraph (j)(1) of this AD, install new upper chords of the upper deck floor beams and reinforcing straps or angles, in accordance with the Accomplishment Instructions of Boeing Alert Service Bulletin 747-53A2852, dated June 22, 2012, except as required by paragraph (l)(2) of this AD.

(k) Post-Replacement Repetitive Inspections

For airplanes on which any replacement required by paragraph (j) or (k)(2)(ii) of this AD is done: At the applicable times specified in Tables 2 through 4 in paragraph 1.E., “Compliance,” of Boeing Alert Service Bulletin 747-53A2852, dated June 22, 2012, do HFEC inspections for cracks at the permanent fastener holes and the upper chords of the upper deck floor beams, in accordance with the Accomplishment Instructions of Boeing Alert Service Bulletin 747-53A2452, Revision 1, dated July 16, 2012.

(1) If any cracking is found during any inspection required by paragraph (k) or (k)(2)(i) of this AD, before further flight, repair using a method approved in accordance with the procedures specified in paragraph (o) of this AD.

(2) If no cracking is found during any inspection required by the introductory text of paragraph (k) or (k)(2)(i) of this AD, do the actions required by paragraphs (k)(2)(i) and (k)(2)(ii) of this AD.

(i) Repeat the inspections specified in paragraph (k) of this AD thereafter at the applicable times specified in Tables 8 and 9 of paragraph 1.E., “Compliance,” of Boeing Alert Service Bulletin 747-53A2452, Revision 1, dated July 16, 2012.

(ii) Within 10,000 flight cycles after accomplishing the initial HFEC inspections required by paragraph (k) of this AD, replace the upper chords of the upper deck floor beams by doing the actions specified in paragraphs (j)(1) and (j)(2) of this AD.

(l) Exceptions to Service Information

(1) Where Boeing Alert Service Bulletin 747-53A2452, Revision 1, dated July 16, 2012, specifies a compliance time “after the Revision 1 date of this service bulletin,” this AD requires compliance within the specified compliance time after the effective date of this AD.

(2) Where Boeing Alert Service Bulletin 747-53A2452, Revision 1, dated July 16, 2012; or Boeing Alert Service Bulletin 747-53A2852, dated June 22, 2012; specifies to contact Boeing for appropriate action: Before further flight, repair using a method approved in accordance with the procedures specified in paragraph (o) of this AD.

(m) Credit for Previous Actions

This paragraph provides credit for the actions required by paragraphs (g), (h), and (i) of this AD, if those actions were performed before the effective date of this AD using Boeing Alert Service Bulletin 747-53A2452, dated April 3, 2003, which was incorporated by reference in AD 2005-20-29, Amendment 39-14326 (70 FR 59246, October 12, 2005).

(n) Special Flight Permit

Special flight permits, as described in Section 21.197 and Section 21.199 of the Federal Aviation Regulations (14 CFR 21.197 and 21.199), are not allowed.

(o) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (p)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(p) Related Information

(1) For more information about this AD, contact Roger Caldwell, Aerospace Engineer, Technical Operations Center, ANM-100D, FAA, Denver Aircraft Certification Office, 26805 East 68th Avenue, Room 214, Denver, CO 80249; phone: 303-342-1086; fax: 303-342-1088; email: roger.caldwell@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on September 27, 2015.
Michael Kaszycki,
Acting Manager, Transport Airplane Directorate, Aircraft Certification Service.

[FR Doc. 2015-25272 Filed 10-5-15; 8:45 am]

BILLING CODE 4910-13-P